DEPARTMENT OF LABOR

Employment and Training Administration

[TA-W-62,310]

Healthcare Management Partners, LLC, Santa Ana, CA; Notice of Negative Determination Regarding Application for Reconsideration

By application postmarked November 20, 2007, the petitioner requested administrative reconsideration of the Department's negative determination regarding eligibility to apply for Trade Adjustment Assistance (TAA), applicable to workers and former workers of the subject firm. The denial notice was signed on October 23, 2007 and published in the Federal Register on November 6, 2007 (72 FR 62682).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The negative TAA determination issued by the Department for workers of Healthcare Management Partners, LLC, Santa Ana, California, was based on the finding that the worker group does not produce an article within the meaning of Section 222 of the Trade Act of 1974. The investigation revealed that workers of the subject firm are engaged in medical billing and medical practice management. The investigation further revealed that no production of article(s) occurred within the firm or appropriate subdivision within the Healthcare Management Partners, LLC during the relevant time period.

The petitioner contends that the Department erred in its interpretation of the work performed by the workers of the subject firm. The petitioner states that the workers of the subject firm “produced medical coding, appeals on claims, resubmitted claims, bills, medical records and other documents for patients, insurance companies, or other third parties.” The petitioner alleges that because the work was done in a “production environment in which workers submitted weekly reports” and because the written documents and codes should be considered “intangible products”, workers of the subject firm should be considered as engaged in production of articles.

The investigation revealed that Healthcare Management Partners, LLC, Santa Ana, California, provide medical billing and practice management services to physicians and medical professional practices and the workers were engaged in data processing, payment posting, following up on accounts receivable for the company's medical billing clients. These functions, as described above, are not considered production of an article within the meaning of Section 222 of the Trade Act. Claims, medical records, bills and other correspondence are documents used by the subject firm as incidental to services provided by the subject firm. No production took place at the subject facility nor did the workers support production of an article for at any domestic affiliated location during the relevant period.

The petitioner also alleges that job functions have been shifted from the subject firm to overseas contractors.

The allegation of a shift to another country might be relevant if it was determined that workers of the subject firm produced an article. However, the investigation determined that workers of Healthcare Management Partners, LLC, Santa Ana, California, do not produce an article within the meaning of Section 222 of the Trade Act of 1974.

Conclusion

After review of the application and investigative findings, I conclude that there has been no error or misinterpretation of the law or of the facts which would justify reconsideration of the Department of Labor's prior decision. Accordingly, the application is denied.

Signed in Washington, DC, this 18th day of December, 2007.
Elliott S. Kushner,
Certifying Officer, Division of Trade Adjustment Assistance.

[FR Doc. E7-25365 Filed 12-28-07; 8:45 am]

BILLING CODE 4510-FN-P